FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements (202)-523-5793 or tradeanalysis@fmc.gov).

Agreement No.: 012044.

Title: MOL/CMA CGM Slot Charter Agreement.

Parties: CMA CGM S.A. and Mitsui O.S.K. Lines, Ltd.

Filing Party: Robert B. Yoshitomi, Esq.; Nixon Peabody, LLP; Gas Company Tower; 555 West Fifth St, 46th Floor; Los Angeles, CA 90013.

Synopsis: The agreement authorizes MOL to charter space to CMA CGM in the trade between the United States West Coast and Japan.

Agreement No.: 012045.

Title: Amazon Service Agreement.

Parties: Kawasaki Kisen Kaisha, Ltd. and Bringer Corporation, dba Bringer Lines.

Filing Party: Howard A. Levy, Esq.; 80 Wall Street, Suite 1117; New York, NY 10005.

Synopsis: The agreement authorizes the parties to share vessel space in the trade between the United States ports and ports in the Caribbean and Brazil.

By Order of the Federal Maritime Commission.
Dated: May 30, 2008.
Karen V. Gregory,
Assistant Secretary.

[FR Doc. E8-12504 Filed 6-3-08; 8:45 am]

BILLING CODE 6730-01-P